DEPARTMENT OF COMMERCE

International Trade Administration

(C-570-915)

Light-Walled Rectangular Pipe and Tube from the People's Republic of China: Notice of Postponement of Preliminary Determination in the Countervailing Duty Investigation

AGENCY: Import Administration, International Trade Administration, Department of Commerce.

EFFECTIVE DATE: August 24, 2007.

FOR FURTHER INFORMATION CONTACT: Damian Felton or Brandon Farlander, AD/CVD Operations, Import Administration, International Trade Administration, U.S. Department of Commerce, 14th Street and Constitution Avenue, NW, Washington, DC 20230; telephone: (202) 482-0133 and (202) 482-0182, respectively.

SUPPLEMENTARY INFORMATION:

Background

On July 17, 2007, the Department of Commerce (“the Department”) initiated the countervailing duty investigation of light-walled rectangular pipe and tube from the People's Republic of China. See Notice of Initiation of Countervailing Duty Investigation: Light-Walled Rectangular Pipe and Tube from the People's Republic of China, 72 FR 40281 (July 24, 2007). Currently, the preliminary determination is due no later than September 20, 2007.

Postponement of Due Date for Preliminary Determination

Section 703(b)(1) of the Tariff Act of 1930, as amended (“the Act”), requires the Department to issue the preliminary determination in a countervailing duty investigation within 65 days after the date on which the Department initiated the investigation. However, if the Department concludes that the parties concerned in the investigation are cooperating and determines that the investigation is extraordinarily complicated, section 703(c)(1)(B)(i) of the Act allows the Department to postpone making the preliminary determination until no later than 130 days after the date on which the administering authority initiated the investigation.

The Department concludes that, thus far, the parties concerned are cooperating. Furthermore, due to the number and complexity of the alleged countervailable subsidy practices being investigated, which include loans, grants, income tax programs, provision of goods or services for less than adequate remuneration and government restraints on exports, it is not practicable to complete the preliminary determination of this investigation within the original time limit (i.e., September 20, 2007). Therefore, in accordance with section 703(c)(1)(B)(i) of the Act, we are fully extending the due date for the preliminary determination to no later than 130 days after the day on which the investigation was initiated (i.e., November 26, 2007).

This notice is issued and published pursuant to section 703(c)(2) of the Act.

Dated: August 20, 2007.
Gary Taverman,
Acting Deputy Assistant Secretary for Import Administration.

[FR Doc. E7-16809 Filed 8-23-07; 8:45 am]

BILLING CODE 3510-DS-S